ENVIRONMENTAL PROTECTION AGENCY

[ER-FRL-6668-7]

Environmental Impacts Statements; Notice of Availability

Responsible Agency: Office of Federal Activities, General Information (202) 564-7167 or http://www.epa.gov/compliance/nepa/.

Weekly receipt of Environmental Impact Statements

Filed October 17, 2005 Through October 21, 2005

Pursuant to 40 CFR 1506.9.

EIS No. 20050439, Final EIS, COE, MS, Enhanced Evaluation of Cumulative Effects Associated with U.S. Army Corps of Engineers Permitting Activity for Large-Scale Development in Coastal Mississippi, Hancock, Harrison, Jackson, and Mississippi Counties, MS, Wait Period Ends: 12/27/2005, Contact: Dr. Susan I. Rees 251-694-4141.

EIS No. 20050440, Final EIS, SFW, AK, Alaska Peninsula and Becharof National Wildlife Refuges, Revised Comprehensive Conservation Plan, Implementation, AK, Wait Period Ends: 11/28/2005, Contact: Peter Wikoff 907-786-3837.

EIS No. 20050441, Draft EIS, COE, AK, Delong Mountain Terminal Project, Proposed Construction and Operation of Navigation Improvements, Northwest Arctic Borough, AK, Comment Period Ends: 12/27/2005, Contact: Guy McConnell 907-753-2614.

EIS No. 20050442, Draft EIS, NOA, WV, Canaan Valley Institute Office Complex, Proposes to Construct: Offices, Classrooms, Laboratories, 250-Seat Auditorium, Parking Facilities, Outdoor Classrooms and Interpretive Areas, U.S. Army COE Section 404 Permit, Southeast of the Towns of Davis and Thomas, Tucker County, WV, Comment Period Ends: 12/12/2005, Contact: Dr. Bruce B. Hicks 301-713-3318.

EIS No. 20050443, Final EIS, FHW, 00, US-159 Missouri River Crossing Project, Rehabilitation or Replacement of the Missouri River Bridge at Rulo, Funding and U.S. Army COE Section 404 Permit, Richardson County, NE and Holt County, MO, Wait Period Ends: 11/28/2005, Contact: Ed Kosola 402-437-5973.

EIS No. 20050444, Final Supplement, FTA, VA, Norfolk Light Rail Transit System, from the western terminus near Eastern Virginia Medical Center through Downtown Norfolk to an eastern terminus at Newtown Road and Kempsville Road, Funding, U.S. COE Section 404 Permit, USCGD Bridge Permit, City of Norfolk, VA, Wait Period Ends: 11/28/2005 Contact: Patricia Kampf 215-656-7100.

EIS No. 20050445, Draft EIS, NPS, SD, Badlands National Park/North Unit General Management Plan, Implementation, Jackson, Pennington and Shananon Counties, SD, Comment Period Ends: 12/27/2005, Contact: William Supernaugh 605-433-5281.

EIS No. 20050446, Draft EIS, USN, 00, Undersea Warfare Training Range (USWTR), Installation and Operation, Preferred Site (in the Cherry Point Operating Area) and the Alternate Sites ( within the Virginia Capes and Jacksonville Operating Areas), NC, VA and FL, Comment Period Ends: 12/12/2005, Contact: Keith Jenkins 757-322-4046.

EIS No. 20050447, Final EIS, FHW, OH, Eastern Corridor Multi-Modal (Tier 1) Project, to Implement a Multi-Modal Transportation Program between the City of Cincinnati and Eastern Suburbs in Hamilton and Clermont Counties, OH, Wait Period Ends: 11/28/2005, Contact: Dennis A. Decker 614-280-6896.

EIS No. 20050448, Draft EIS, BLM, MT, Upper Missouri River Breaks National Monument Resource Management Plan, Implementation, Blaine, Chouteau, Fergus and Phillips Counties, MT, Comment Period Ends: 01/26/2005, Contact: Jerry Majerus 406-538-1924.

EIS No. 20050449, Final EIS, USN, FL, Navy Air-To-Ground Training at Avon Park Air Force Range, To Conduct Air-To-Ground Ordnance Delivery and Training, Fleet Forces Command's Fleet Readiness Training Program (FRTP), Polk and Highland Counties, FL, Wait Period Ends: 11/28/2005, Contact: Will Sloger 843-820-5797.

Amended Notices

EIS No. 20050334, Final EIS, DOE, MT, South Fork Flathead Watershed Westslope Cutthroat Trout Conservation Program, Preserve the Genetic Purity of the Westslope Cutthroat Trout Population, Flathead National Forest, Flathead River, Flathead, Powell and Missoula Counties, MT, Wait Period Ends: 12/12/2005, Contact: Colleen Spiering 503-230-5756. Revision of FR Notice Published on 08/19/2005: Reopened the Wait Period from 09/19/2005 to 12/12/2005.

Dated: October 25, 2005.
Robert W. Hargrove,
Director, NEPA Compliance Division, Office of Federal Activities.

[FR Doc. 05-21544 Filed 10-27-05; 8:45 am]

BILLING CODE 6560-50-P